DEPARTMENT OF TRANSPORTATION

Federal Aviation Administration

14 CFR Part 39

[Docket No. FAA-2005-22697; Directorate Identifier 2004-SW-46-AD]

RIN 2120-AA64

Airworthiness Directives; Eurocopter France Model EC155B and B1 Helicopters; Correction

AGENCY: Federal Aviation Administration, DOT.

ACTION: Notice of proposed rulemaking (NPRM); correction.

SUMMARY: This document corrects a docket number in an NPRM that was published in the Federal Register on October 17, 2005 (70 FR 60244). The NPRM applies to Eurocopter France Model EC155B and B1 helicopters. The NPRM proposed to require inspecting an electrical cable bundle for wear and, if necessary, installing an airworthy cable bundle and modifying the routing of the electrical cable bundles.

FOR FURTHER INFORMATION CONTACT: Jorge Castillo, Aviation Safety Engineer, FAA, Rotorcraft Directorate, Regulations and Policy Group, Fort Worth, Texas 76193-0111, telephone (817) 222-5127, fax (817) 222-5961.

SUPPLEMENTARY INFORMATION: On October 7, 2005, the FAA issued an NPRM to amend 14 CFR part 39 to include an airworthiness directive (AD) that would apply to Eurocopter France Model EC155B and B1 helicopters. That NPRM proposed to require inspecting the wiring of panel 12 Alpha electrical (wiring) cable bundle for wear, and, if necessary, replacing any worn cable bundle, modifying the routing of the electrical wiring (MOD 0739C28), and replacing spreaders and spacers.

As published, that NPRM contains an incorrect docket number (FAA-2005-22696) throughout the preamble and the regulatory text. The correct docket number is FAA-2005-22697.

No other part of the regulatory information has been changed; therefore, the NPRM is not republished in the Federal Register.

Correction of Publication

Accordingly, the publication on October 17, 2005 of the proposed regulations, which is the subject of FR Doc. 05-20679, is corrected as follows:

§ 39.13 [Corrected]

(1) On page 60244, in the third column, in the paragraph that has the Agency numbers, change “Docket No. FAA-2005-22696” to read “Docket No. FAA-2005-22697”.

(2) On page 60245, in the first column, in the first paragraph under Comments Invited, change “Docket No. FAA-2005-22696” to read “Docket No. FAA-2005-22697”.

(3) On page 60246, in the first column, paragraph 2. of Part 39—Airworthiness Directives, change “Docket No. FAA-2005-22696” to read “Docket No. FAA-2005-22697”.

Issued in Fort Worth, Texas, on January 12, 2006.
David A. Downey,
Manager, Rotorcraft Directorate, Aircraft Certification Service.

[FR Doc. E6-623 Filed 1-19-06; 8:45 am]

BILLING CODE 4910-13-P